DEPARTMENT OF TRANSPORTATION

Federal Aviation Administration

14 CFR Part 71

[Docket No. FAA-2023-0995; Airspace Docket No. 23-ASO-17]

RIN 2120-AA66

Amendment of Class E Airspace; Nashville, TN

AGENCY: Federal Aviation Administration (FAA), DOT.

ACTION: Final rule; correction.

SUMMARY: A final rule was published in the Federal Register on July 24, 2023, amending Class E airspace designated as an extension to a Class C surface area and Class E airspace extending upward from 700 feet above the surface in Nashville, TN. This action corrects the geographic coordinates of Nashville International Airport and Nashville VORTAC under the Class E airspace designated as an extension to a Class C surface area.

DATES: Effective 0901 UTC, October 5, 2023. The Director of the Federal Register approves this incorporation by reference action under 1 CFR part 51, subject to the annual revision of FAA Order JO 7400.11 and publication of conforming amendments.

FOR FURTHER INFORMATION CONTACT: John Fornito, Operations Support Group, Eastern Service Center, Federal Aviation Administration, 1701 Columbia Ave., College Park, GA 30337; Telephone (404) 305-6364.

SUPPLEMENTARY INFORMATION:

Authority for This Rulemaking

History

The FAA published a final rule in the Federal Register (88 FR 47362, July 24, 2023) for Doc. No. FAA-2023-0995, amending Class E airspace designated as an extension to the Class C surface area of Nashville International Airport. After publication, the FAA found the geographic coordinates for Nashville International Airport and Nashville VORTAC were displayed incorrectly. This action corrects this error.

Correction to the Final Rule

Accordingly, pursuant to the authority delegated to me, the amendment of Class E airspace designated as an extension to the Class C surface area for Nashville International Airport, TN, in Docket No. FAA-2023-0995, as published in the Federal Register on July 24, 2023 (88 FR 47362), is corrected as follows:

§ 71.1 [Corrected]

1. On page 47363, in the second column, under ASO TN E3 Nashville, TN [Amended], correct the geographic coordinates for Nashville International Airport to read:

* * * * *

(Lat 36°07′28″ N, long 86°40′41″ W)

* * * * *

2. On page 47363, in the second column, under ASO TN E3 Nashville, TN [Amended], correct the geographic coordinates for Nashville VORTAC to read:

* * * * *

(Lat 36°08′13″ N, long 86°41′05″ W)

* * * * *

Issued in College Park, Georgia, on August 2, 2023.
Andreese C. Davis,
Manager, Airspace & Procedures Team South, Eastern Service Center, Air Traffic Organization.

[FR Doc. 2023-16762 Filed 8-9-23; 8:45 am]

BILLING CODE 4910-13-P